DEPARTMENT OF THE INTERIOR

National Park Service

[NPS-WASO-NAGPRA-NPS0037570; PPWOCRADN0-PCU00RP14.R50000]

Notice of Intent To Repatriate Cultural Items: California State University, Sacramento, Sacramento, CA, and East Bay Municipal Utility District, Oakland, CA

AGENCY: National Park Service, Interior.

ACTION: Notice.

SUMMARY: In accordance with the Native American Graves Protection and Repatriation Act (NAGPRA), California State University, Sacramento and East Bay Municipal Utility District (EBMUD) intend to repatriate certain cultural items that meet the definition of objects of cultural patrimony and that have a cultural affiliation with the Indian Tribes or Native Hawaiian organizations in this notice.

DATES: Repatriation of the cultural items in this notice may occur on or after April 8, 2024.

ADDRESSES: Dr. Mark Wheeler, Chief of Staff to President Luke Wood, California State University, Sacramento, 6000 J Street, Sacramento, CA 95819, telephone (916) 460-0490, email mark.wheeler@csus.edu, and Chuck Beckman, Manager of Watershed and Recreation, East Bay Municipal Utility District, 15083 Camanche Parkway South, Valley Springs, CA 95252, telephone (209) 772-8203, email 1855harles.beckman@ebmud.com.

SUPPLEMENTARY INFORMATION: This notice is published as part of the National Park Service's administrative responsibilities under NAGPRA. The determinations in this notice are the sole responsibility of California State University, Sacramento and EBMUD, and additional information on the determinations in this notice, including the results of consultation, can be found in the summary or related records. The National Park Service is not responsible for the determinations in this notice.

Abstract of Information Available

The 18,984 cultural items were removed from several sites in Amador County, CA. In the 1950s and 1960s, California State University, Sacramento conducted various surveys and excavations prior to the inundation of Camanche Reservoir, variously under the direction of William Beeson, Jerald Johnson, Louis Payen, William Hansen, and David Boloyan. These sites include AMA-04, AMA-05, AMA-08, AMA-45, AMA-50, and AMA-76. All collections were curated at California State University, Sacramento. The 18,984 objects of cultural patrimony include faunal and flora remains; flaked and ground stone objects; unmodified stones; historic objects; modified shell, stone and wood; baked clay; ash; ochre; soil and geologic samples; thermally altered rocks; other organic material; and unidentified material. Of this number, 978 objects are currently missing from the collections. California State University, Sacramento continues to look for these 978 missing objects.

Determinations

California State University, Sacramento and EBMUD have determined that:

• The 18,984 cultural items described above have ongoing historical, traditional, or cultural importance central to the Native American group or culture itself, including any constituent sub-group (such as a band, clan, lineage, ceremonial society, or other subdivision), according to the Native American traditional knowledge of an Indian Tribe or Native Hawaiian organization.

• There is a reasonable connection between the cultural items described in this notice and the Buena Vista Rancheria of Me-Wuk Indians of California and the Ione Band of Miwok Indians of California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after April 8, 2024. If competing requests for repatriation are received, the California State University, Sacramento and EBMUD must determine the most appropriate requestor prior to repatriation. Requests for joint repatriation of the cultural items are considered a single request and not competing requests. The California State University, Sacramento and EBUMD is responsible for sending a copy of this notice to the Indian Tribes identified in this notice.

Authority: Native American Graves Protection and Repatriation Act, 25 U.S.C. 3004 and the implementing regulations, 43 CFR 10.9.

Dated: February 29, 2024.
Melanie O'Brien,
Manager, National NAGPRA Program.

[FR Doc. 2024-04993 Filed 3-7-24; 8:45 am]

BILLING CODE 4312-52-P